DEPARTMENT OF THE INTERIOR

National Park Service

[NPS-WASO-NAGPRA-15408; PPWOCRADN0-PCU00RP14.R50000]

Notice of Inventory Completion: University of Wisconsin-Madison, Department of Anthropology, Madison, WI

AGENCY: National Park Service, Interior.

ACTION: Notice.

SUMMARY: The University of Wisconsin-Madison Department of Anthropology has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to the University of Wisconsin-Madison Department of Anthropology. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to the University of Wisconsin-Madison Department of Anthropology at the address in this notice by June 16, 2014.

ADDRESSES: Sissel Schroeder, University of Wisconsin-Madison, Department of Anthropology, 1180 Observatory Drive, 5240 Social Sciences Building, Madison, WI 53706, telephone (608) 262-0317, email sschroeder2@wisc.edu.

SUPPLEMENTARY INFORMATION: Notice is here given in accordance with the Native American Graves Protection and Repatriation Act (NAGPRA), 25 U.S.C. 3003, of the completion of an inventory of human remains and associated funerary objects under the control of the University of Wisconsin-Madison Department of Anthropology, Madison, WI. The human remains and associated funerary objects were removed from Portage County, WI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the University of Wisconsin-Madison Department of Anthropology professional staff in consultation with representatives of the Forest County Potawatomi Community, Wisconsin; Ho-Chunk Nation of Wisconsin; Lac Courte Oreilles Band of Lake Superior Chippewa Indians of Wisconsin; Lac du Flambeau Band of Lake Superior Chippewa Indians of the Lac du Flambeau Reservation of Wisconsin; Menominee Indian Tribe of Wisconsin; Sokaogon Chippewa Community, Wisconsin; and the Stockbridge Munsee Community, Wisconsin. The following tribes were invited to consult but did not participate: The Bad River Band of the Lake Superior Tribe of Chippewa Indians of the Bad River Reservation, Wisconsin; Bois Forte Band (Nett Lake) of the Minnesota Chippewa Tribe, Minnesota; Fond du Lac Band of the Minnesota Chippewa Tribe, Minnesota; Grand Portage Band of the Minnesota Chippewa Tribe, Minnesota; Keweenaw Bay Indian Community, Michigan; Lac Vieux Desert Band of Lake Superior Chippewa Indians of Michigan; Leech Lake Band of the Minnesota Chippewa Tribe, Minnesota; Mille Lacs Band of the Minnesota Chippewa Tribe, Minnesota; Minnesota Chippewa Tribe, Minnesota; Red Cliff Band of Lake Superior Chippewa Indians of Wisconsin; St. Croix Chippewa Indians of Wisconsin; and the White Earth Band of Minnesota Chippewa Tribe, Minnesota.

History and Description of the Remains

In 1966, human remains representing, at minimum, 11 individuals were removed from the Bigelow-Hamilton site, in Portage County, WI, by William Hurley as part of his dissertation research under the direction of David A. Baerreis at the University of Wisconsin-Madison (UW-Madison). The site was first documented in the 1800s, excavated numerous times through the early-mid 1900s, and severely modified by both natural and cultural processes. The site consists of a series of conical, effigy, and linear mounds, as well as habitation areas. These human remains were removed from Mounds 9, A, B, Q, and R and have been curated at UW-Madison since the time of excavation. No known individuals were identified. The 60 associated funerary objects are: From Mound 9, Burial 3, 9 silicified sandstone triangular points; from Mound 9, Burial 4, 1 lot fragmentary material that includes a grit-tempered prehistoric sherd; from Mound A, Burial 3, 1 iron knife; from Mound A, Burial 5, 1 worked deer antler, 1 beaver incisor, 1 silicified sandstone triangular projectile point, 1 lot of shell fragments, and 1 lot of small, fragmentary objects containing a small seed bead; from Mound B, Burial 4, 1 lot of white seeds or compound beads, 1 strike-a-light, 1 gun flint, 1 lot of square-cut iron nails, 1 lot of fragments including human hair and beads, 5 large stone fragments, 3 grit-tempered prehistoric pottery sherds, 2 small silicified sandstone flakes, 1 lot of small fragments of non-human animal bones, 1 lot of fragments including metal pins and preserved fabric, and 1 lot of miscellaneous beads and nails; from Mound B, Burial 7, 1 lot of white seeds or compound beads, 1 small silver pin, 1 coat button, 1 lot of square-cut nails and wood fragments, 1 metal knife with a wooden handle, 1 sewn birch-bark sheath, 1 `TD' style white kaolin pipe, 1 glass mirror, 5 brass buttons, 1 fork, 1 woven wool pouch with beads and hematite, 1 lot of small fragments of red ochre, and 1 lot of small stone fragments, nails, and shells; from Mound B, Burial 11, 1 lot of glass seeds or composite white beads, 2 fragmentary metal broaches, 1 strike-a-light or coffin handle, 1 gunflint with textile and wood fragments, 1 brass circular pin, 1 lot of miscellaneous lithic and small prehistoric pottery fragments, and 2 cubes of galena. The site dates from the Late Woodland Period (ca. A.D. 800-1050) and the Historic Native American Period (ca. A.D. 1790-1848).

Determinations Made by the University of Wisconsin-Madison Department of Anthropology

Officials of the University of Wisconsin-Madison Department of Anthropology have determined that:

• Pursuant to 25 U.S.C. 3001(9), the human remains described in this notice are Native American based on their examination by a physical anthropologist, their recovery from a known archeological site, and their well-documented provenience in the field records.

• Pursuant to 25 U.S.C. 3001(9), the human remains described in this notice represent the physical remains of 11 individuals of Native American ancestry.

• Pursuant to 25 U.S.C. 3001(3)(A), the 60 objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• Treaties, Acts of Congress, or Executive Orders, indicate that the land from which the Native American human remains and associated funerary objects were removed is the aboriginal land of the Bad River Band of the Lake Superior Tribe of Chippewa Indians of the Bad River Reservation, Wisconsin; Bay Mills Indian Community, Michigan; Bois Forte Band (Nett Lake) of the Minnesota Chippewa Tribe, Minnesota; Chippewa-Cree Indians of the Rocky Boy's Reservation, Montana; Fond du Lac Band of the Minnesota Chippewa Tribe, Minnesota; Grand Portage Band of the Minnesota Chippewa Tribe, Minnesota; Grand Traverse Band of Ottawa and Chippewa Indians, Michigan; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Leech Lake Band of the Minnesota Chippewa Tribe, Minnesota; Menominee Indian Tribe of Wisconsin; Mille Lacs Band of the Minnesota Chippewa Tribe, Minnesota; Minnesota Chippewa Tribe, Minnesota; Red Cliff Band of Lake Superior Chippewa Indians of Wisconsin; Red Lake Band of Chippewa Indians, Minnesota; Saginaw Chippewa Indian Tribe of Michigan; Sault Ste. Marie Tribe of Chippewa Indians, Michigan; Sokaogon Chippewa Community, Wisconsin; St. Croix Chippewa Indians of Wisconsin; Turtle Mountain Band of Chippewa Indians of North Dakota; and the White Earth Band of Minnesota Chippewa Tribe, Minnesota (hereafter referred to as “The Tribes”).

• Pursuant to 43 CFR 10.11(c)(1), the disposition of the human remains and associated funerary objects may be to The Tribes.

Additional Requestors and Disposition

Representatives of any Indian tribe or Native Hawaiian organization not identified in this notice that wish to request transfer of control of these human remains and associated funerary objects should submit a written request with information in support of the request to Sissel Schroeder, University of Wisconsin-Madison, Department of Anthropology, 1180 Observatory Drive, 5240 Social Sciences Building, Madison, WI 53706, telephone (608) 262-0317, email sschroeder2@wisc.edu, by June 16, 2014. After that date, if no additional requestors have come forward, transfer of control of the human remains and associated funerary objects to The Tribes may proceed.

The University of Wisconsin-Madison Department of Anthropology is responsible for notifying The Tribes that this notice has been published.

Dated: March 31, 2014.
Sherry Hutt,
Manager, National NAGPRA Program.

[FR Doc. 2014-11279 Filed 5-14-14; 8:45 am]

BILLING CODE 4312-50-P